ENVIRONMENTAL PROTECTION AGENCY

[FRL-7106-9]

Office of Research and Development; Board of Scientific Counselors Subcommittee Review of the National Exposure Research Laboratory

AGENCY: Environmental Protection Agency (EPA).

ACTION: Notice of review.

SUMMARY: Pursuant to the Federal Advisory Committee Act, Public Law 92-463, as amended (5 U.S.C., App. 2) notification is hereby given that the Environmental Protection Agency, Office of Research and Development (ORD), Board of Scientific Counselors (BOSC), Subcommittee will meet to review the National Exposure Research Laboratory.

DATES: The review will be held on December 18-20, 2001. On Tuesday, December 18, 2001, the review will begin at 8 a.m., and will recess at 5 p.m. On Wednesday, December 19, 2001, the review will begin at 8:30 a.m. and recess at 5 p.m. On the final day, Thursday, December 20, 2001, the meeting will begin at 8:30 a.m. and adjourn 2:30 p.m., and will include a writing session from 8:45 a.m. to 12 noon. All times noted are Eastern Time.

ADDRESSES: The review will be held at the Catawba Building, 3210 Highway 54, Room 327, Research Triangle Park, North Carolina.

FOR FURTHER INFORMATION CONTACT: Shirley R. Hamilton, Designated Federal Officer, U.S. Environmental Protection Agency, Office of Research and Development, (8701R), 1200 Pennsylvania Avenue, NW., Washington, DC 20460, (202) 564-6853.

SUPPLEMENTARY INFORMATION: Anyone desiring a draft agenda may fax their request to Shirley R. Hamilton, (202) 565-2444. The meeting is open to the public. Any member of the public wishing to make comments at the meeting should contact Shirley Hamilton, Designated Federal Officer, U.S. Environmental Protection Agency, Board of Scientific Counselors, Office of Research and Development (8701R), 1200 Pennsylvania Avenue NW., Washington, DC 20460 by telephone at (202) 564-6853. In general, each individual making an oral presentation will be limited to a total of three minutes.

Dated: November 15, 2001.
Peter W. Preuss,
Director, National Center for Environmental Research.

[FR Doc. 01-29271 Filed 11-21-01; 8:45 am]

BILLING CODE 6560-50-P